DEPARTMENT OF COMMERCE

National Oceanic and Atmospheric Administration

50 CFR Part 600

[I.D. 072301D]

Magnuson-Stevens Act Provisions; Essential Fish Habitat; Public Meeting

AGENCY: North Pacific Fishery Management Council (NPFMC) and National Marine Fisheries Service (NMFS), National Oceanic and Atmospheric Administration (NOAA), Commerce.

ACTION: Notification of public meeting.

SUMMARY: The NPFMC will hold an essential fish habitat (EFH) committee meeting to review NMFS draft summary of EFH scoping comments, to identify significant issues and preliminary alternatives, and to determine staffing needs.

DATES: The EFH committee will meet at 12:30 p.m. to 5 p.m. on Monday, August 13, 2001, and at 9 a.m. to 5 p.m. on Tuesday, August 14, 2001.

ADDRESSES: The committee will meet in Sitka, Alaska, at the Northern Southeast Regional Aquaculture Association (NSRAA), 1308 Sawmill Creek Road, in the conference room.

Questions should be addressed to NMFS, Habitat Conservation Division, ATTN: Cindy Hartmann, 709 West 9th , Suite 461, P.O. Box 21668, Juneau, AK 99802-1668.

FOR FURTHER INFORMATION CONTACT: Cindy Hartmann, NMFS, (907) 586-7585, e-mail: Cindy.Hartmann@noaa.gov; or Cathy Coon, North Pacific Fishery Management Council (NPFMC), (907) 271-2809, e-mail: Cathy.Coon@noaa.gov.

SUPPLEMENTARY INFORMATION:

Background

The NPFMC EFH committee was formally established by the NPFMC's acting executive director in May 2001. The committee was established in response to the need to prepare a supplemental environmental impact statement (SEIS) for the EFH fishery management plan amendments. For further information about the SEIS, see the notice of intent to prepare an SEIS published in the Proposed Rules section of the Federal Register (66 FR 30396, June 6, 2001).

The function of the committee is to serve as a steering committee in facilitating input to NMFS on the supplemental environmental impact statement (SEIS) for EFH submitted by the industry, conservation community, Council, and general public and the involvement of the NPFMC in the SEIS. More specifically, the Committee will assist in identifying (1) the significant issues used to evaluate proposed alternatives, (2) the alternatives for designating EFH, (3) the alternatives for mitigating fishing gear impacts on habitat, and (4) alternative criteria and approaches that could be used to designate and manage habitat areas of particular concern, and staffing needs for EFH SEIS. The Committee will work to coordinate efforts among the various technical teams, provide input, as appropriate, and submit periodic updates to the Council on the EIS for EFH. The EFH Committee had its first meeting on May 30, 2001, the August meeting will be its second meeting.

Although other issues not contained in this agenda may come before the Committee for discussion, those issues may not be the subject of formal action during the meeting. Action will be restricted to those issues specifically identified in this notice.

Special Accommodations

This meeting is physically accessible to people with disabilities. Requests for sign language interpretation or other auxiliary aids should be directed to Cindy Hartmann, (907) 586-7235, at least 5 working days prior to the meeting date.

Authority: 16 U.S.C. 1801 et seq.

Dated: July 26, 2001
Dean Swanson,
Acting Director, Office of Sustainable Fisheries, National Marine Fisheries Service.

[FR Doc. 01-19063 Filed 7-30-01; 8:45 am]

BILLING CODE 3510-22-S